ENVIRONMENTAL PROTECTION AGENCY

[FRL-8772-2]

Science Advisory Board Staff Office; Notification of a Public Teleconference of the Science Advisory Board; Integrated Nitrogen Committee

AGENCY: Environmental Protection Agency (EPA).

ACTION: Notice.

SUMMARY: The EPA Science Advisory Board (SAB) Staff Office announces a public teleconference of the SAB Integrated Nitrogen Committee (INC) to discuss the committee's draft report.

DATES: The SAB INC will conduct a public teleconference on March 4, 2009. The call will begin at 1 p.m. and end at 3 p.m. (Eastern Time).

FOR FURTHER INFORMATION CONTACT: Any member of the public wishing to obtain general information concerning the public teleconference may contact Dr. Angela Nugent, Designated Federal Officer (DFO), via telephone at: (202) 343-9981 or e-mail at nugent.angela@epa.gov. General information concerning the EPA Science Advisory Board can be found on the EPA Web Site at http://www.epa.gov/sab.

SUPPLEMENTARY INFORMATION: The SAB was established by 42 U.S.C. 4365 to provide independent scientific and technical advice, consultation, and recommendations to the EPA Administrator on the technical basis for Agency positions and regulations. The SAB is a Federal Advisory Committee chartered under the Federal Advisory Committee Act (FACA), as amended, 5 U.S.C., App. The SAB will comply with the provisions of FACA and all appropriate SAB Staff Office procedural policies.

Background: The SAB INC is studying the need for integrated research and strategies to reduce reactive nitrogen in the environment. At the global scale, reactive nitrogen from human activities now exceeds that produced by natural terrestrial ecosystems. Reactive nitrogen both benefits and impacts the health and welfare of people and ecosystems. Scientific information suggests that reactive nitrogen is accumulating in the environment and that nitrogen cycling through biogeochemical pathways has a variety of consequences.

Information on the committee's previous meetings was published on January 17, 2007 (72 FR 1989), March 22, 2007 (72 FR 3492), August 14, 2007 (72 FR 4542), November 20, 2007 (72 FR 65340), March 19, 2008 (73 FR 4802), and September 23, 2008 (73 FR 54803-54804). The information is also available on the SAB Web site at http://yosemite.epa.gov/sab/sabproduct.nsf/fedrgstr_activites/Nitrogen%20Project.

The purpose of the teleconference is for the SAB INC to discuss the committee's draft report addressing the environmental problems presented by reactive nitrogen and providing recommendations related to an integrated nitrogen management strategy. This report relates to the committee's charge to: (1) Identify and analyze, from a scientific perspective, the problems nitrogen presents in the environment and the links among them; (2) evaluate the contribution an integrated nitrogen management strategy could make to environmental protection; (3) identify additional risk management options for EPA's consideration; and (4) make recommendations to EPA concerning improvements in nitrogen research to support risk reduction.

Availability of Meeting Materials: Agendas and materials in support of the teleconferences will be placed on the SAB Web site at http://www.epa.gov/sab/ in advance of each teleconference.

Procedures for Providing Public Input: Interested members of the public may submit relevant written or oral information for the SAB to consider during the public teleconference. Oral Statements: In general, individuals or groups requesting an oral presentation at a public SAB teleconference will be limited to three minutes per speaker, with no more than a total of one-half hour for all speakers. To be placed on the public speaker list, interested parties should contact Dr. Angela Nugent, DFO, in writing (preferably via e-mail) five business days in advance of each teleconference. Written Statements: Written statements should be received in the SAB Staff Office five business days in advance of each teleconference above so that the information may be made available to the SAB for their consideration prior to each teleconference. Written statements should be supplied to the DFO in the following formats: One hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Angela Nugent at (202) 343-9981 or nugent.angela@epa.gov. To request accommodation of a disability, please contact Dr. Nugent preferably at least ten days prior to the teleconferences to give EPA as much time as possible to process your request.

Dated: February 2, 2009.
Anthony Maciorowski,
Deputy Director, EPA Science Advisory Board Staff Office.

[FR Doc. E9-2798 Filed 2-9-09; 8:45 am]

BILLING CODE 6560-50-P